GENERAL ACCOUNTING OFFICE

Federal Accounting Standards Advisory Board Federal Financial Accounting Standards

AGENCY: Federal Accounting Standards Advisory Board.

ACTION: Notice of New Exposure Draft Eliminating Disclosures Related to Tax Revenue Transactions by the Internal Revenue Service, Customs, and Others.

Board Action: Pursuant to the Federal Advisory Committee Act (Pub. L. No. 92-463), as amended, and the FASAB Rules Of Procedure, as amended in October, 1999, notice is hereby given that the Federal Accounting Standards Advisory Board has published a new exposure draft, Eliminating Disclosures Related To Tax Revenue Transactions By The Internal Revenue Service, Customs, and Others.

A summary of the proposed Statement follows:

On November 13, 2000, the Federal Accounting Standards Advisory Board (FASAB) released for public comment an exposure draft (ED) to amend Statement of Federal Financial Accounting Standards (SFFAS) 7, Accounting for Revenue and Other Financing Sources and Concepts for Reconciling Budgetary and Financial Accounting. The amendment would eliminate the current requirement to disclosure certain information about taxes receivable. The exposure draft, entitled Elimination of Disclosures Related to Tax Revenue Transactions by the Internal Revenue Service, Customs, and Others, Amending Statement of Federal Financial Accounting Standards No. 7, Accounting for Revenue and Other Financing Sources, will be out for comment until February 16, 2001.

SFFAS No. 7 applies to entities collecting taxes on behalf of the Federal Government. The two entities collecting the vast majority of Federal taxes are the Internal Revenue Service (IRS) and the U.S. Customs Service (Customs). The Board has concluded that the disclosures required by SFFAS No. 7 do not accomplish a reconciliation of account balances and would mislead those attempting to evaluate IRS' and other tax-collecting entities' performance regarding taxes receivable. The disclosures include compliance activity that precedes the recognition of taxes receivable. Certain supplementary information on compliance assessments, preassessment work in process, claims for refunds, and write-offs would continue to be required as supplementary information.

Two Board members disagree with the decision of the majority. They would retain the disclosure requirement.

The exposure draft will soon be mailed to FASAB's mailing list subscribers. Additionally, it is available on FASAB's home page http://www.financenet.gov/fasab.htm. Copies can be obtained by contacting FASAB at (202) 512-7350, or fontenroser.fasab@gao.gov. The Board has posed specific questions for comment. Respondents are encouraged to address those questions and to comment on any part of the exposure draft. For further information call Richard Fontenrose (202) 512-7358.

Written comments are requested by February 16, 2001, and should be sent to: Wendy M. Comes, Executive Director, Federal Accounting Standards Advisory Board, 441 G Street, NW, Suite 6814, Mail Stop 6K17V, Washington, DC 20548.

FOR FURTHER INFORMATION CONTACT: Wendy Comes, Executive Director, 441 G St., NW, Room 6814, Washington, DC 20548, or call (202) 512-7350.

Authority: Federal Advisory Committee Act. Pub. L. No. 92-463.

Dated: November 13, 2000.
Wendy M. Comes,
Executive Director.

[FR Doc. 00-29419 Filed 11-16-00; 8:45 am]

BILLING CODE 1610-01-M